DEPARTMENT OF HOMELAND SECURITY

Transportation Security Administration

Intent To Request Approval From OMB of One New Public Collection of Information: Surface Transportation Stakeholder Survey

AGENCY: Transportation Security Administration, DHS.

ACTION: 60-Day notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves the submission of information via a survey regarding resource challenges, including the availability of Federal funding, associated with securing surface transportation assets.

DATES: Send your comments by May 20, 2019.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Purpose and Description of Data Collection

The Transportation Security Administration (TSA) has broad statutory authority for “security in all modes of transportation . . . including security responsibilities . . . over modes of transportation that are exercised by the Department of Transportation.” ¹ Consistent with this authority, TSA is the Federal agency responsible for “assess[ing] the security of each surface transportation mode and evaluat[ing] the effectiveness and efficiency of current Federal Government surface transportation security initiatives.” ²

¹ See section 101 of the Aviation and Transportation Security Act (ATSA), Public Law 107-71, 115 Stat. 597 (Nov. 19, 2001), codified at 49 U.S.C. 114 (ATSA created TSA and established the agency's primary federal role to enhance security for all modes of transportation). Section 403(2) of the Homeland Security Act of 2002 (HSA), Public Law 107-296, 116 Stat. 2135 (Nov. 25, 2002), transferred all functions related to transportation security, including those of the Secretary of Transportation and the Under Secretary of Transportation for Security, to the Secretary of Homeland Security. Pursuant to Department of Homeland Security (DHS) Delegation Number 7060.2, the Secretary delegated to the Administrator, subject to the Secretary's guidance and control, the authority vested in the Secretary with respect to TSA, including that in sec. 403(2) of the HSA.

² See Executive Order (E.O.) 13416, section 3(a) (Dec. 5, 2006); 49 U.S.C. 114(d)(3) and (4).

Section 1983 of the FAA Reauthorization Act of 2018 (H.R. 302, Pub. L. 115-254, 132 Stat. 3186, Oct. 5, 2018) (the “Act”) directs the Secretary of Homeland Security to conduct a survey ³ of public and private stakeholders responsible for securing surface transportation assets regarding resource challenges including unmet security needs. The Act also requires reporting to the appropriate congressional committees regarding the survey results and the efforts of DHS to address any identified security vulnerabilities.

³ The provision reads:

(a) In General.—Not later than 120 days after the date of enactment of this Act, the Secretary shall begin conducting a survey of public and private stakeholders responsible for securing surface transportation assets regarding resource challenges, including the availability of Federal funding, associated with securing such assets that provides an opportunity for respondents to set forth information on specific unmet needs.

(b) Report.—Not later than 120 days after beginning the survey required under subsection (a), the Secretary shall report to the appropriate committees of Congress regarding the results of such survey and the Department of Homeland Security's efforts to address any identified security vulnerabilities.

The Federal Emergency Management Agency (FEMA) is the fiduciary agent and Federal awarding agency for grant funding appropriate to DHS for surface transportation security enhancements. As memorialized in a memorandum of understanding between FEMA and TSA, TSA supports the grant process for surface transportation through numerous activities, including stakeholder outreach and soliciting feedback for program improvements from surface transportation security partners.

Consistent with the above authorities and agreements with FEMA, TSA is now seeking approval to conduct the survey. TSA estimates that 641 industry stakeholders will submit a response to the survey, which will take approximately 2 hours to complete. TSA estimates the total annual burden for this one-time collection is 1,282.8 hours.

Use of Results

The information collected in this one-time survey will be used as follows:

1. To develop a baseline understanding of surface transportation operators' security budgets and of the gap, if any, between available funding and stakeholders' perceived security needs.

2. To identify resources across the Department available to stakeholders to address any identified security vulnerabilities.

3. To report to leadership in TSA, DHS, and Congress on those resource needs, in order to inform future Federal budget formulation and grant making decisions.

4. To inform TSA's development of security strategies, priorities, and programs, as well as stakeholder outreach efforts, that ensure the most effective application of available resources.

Dated: March 15, 2019.
Christina A. Walsh,
TSA Paperwork Reduction Act Officer, Information Technology.

[FR Doc. 2019-05394 Filed 3-20-19; 8:45 am]

BILLING CODE 9110-05-P